DEPARTMENT OF TRANSPORTATION

Research and Special Programs Administration

[Docket No. RSPA-03-16841; Notice 2]

Pipeline Safety: Grant of Waiver; Columbia Gas Transmission

AGENCY: Research and Special Programs Administration (RSPA); Department of Transportation (DOT).

ACTION: Notice; grant of waiver.

SUMMARY: Columbia Gas Transmission requested a waiver of compliance with the regulatory requirements at 49 CFR 192.611(d) which require natural gas pipeline operators to confirm or revise the maximum allowable operating pressure (MAOP) of their natural gas pipelines within 18-months after a class location change.

SUPPLEMENTARY INFORMATION:

Background

Columbia Gas Transmission submitted a request to RSPA's Office of Pipeline Safety (RSPA/OPS) seeking a waiver of compliance with the regulatory requirements at 49 CFR 192.611(d) to confirm or revise the MAOP of its natural gas pipeline within 18-months after a class location change. Two segments of Columbia's Line MC pipeline changed from Class 2 to Class 3 locations. To maintain the current MAOP of 899 psig, Columbia elected to replace 9,500 feet of its pipeline with new, heavier wall pipe. The two segments of the pipeline, totaling approximately 1,700 feet, involve stream crossings or wetland areas. The two segments are 1,506 feet and 200 feet in length, respectively.

Columbia anticipated that 7,800 feet of its replacement project would be complete by October 31, 2003. However, due to unforeseen delays in obtaining joint State/Federal environmental permits for the pipe replacement in stream crossings and wetlands areas, Columbia was unable to complete the replacement of the remaining 1,700 feet of pipe prior to the expiration of the 18-month period allowed by § 192.611(d).

Columbia discontinued its pipe replacement project at the start of the winter heating season and intends to resume the project in May 2004. Colombia expects all 9,500 feet of its Line MC will be replaced not later than July 1, 2004. For this reason, Columbia requested a time extension until July 1, 2004, to comply with § 192.611(d).

Columbia provided the following justification for the waiver of their 30-inch Line MC pipeline:

• The 30-inch pipeline was internally inspected in 1999 using both geometry and high resolution magnetic flux leakage tools; no anomalies or dents were identified on the two pipeline segments in the stream crossing and wetland areas of Line MC.

• The cathodic protection test stations on these two segments of Line MC are above the minimum criteria.

• There have been no leaks on these two segments of Line MC.

• The existing pipe and coating on these two segments of Line MC appear in satisfactory condition.

• The existing Line MC was manufactured using a double submerged are welding process.

• The existing Line MC was pressure tested twice; in 1962 during construction and again in 1974. The pipeline was tested above 100% specified minimum yield strength during both pressure tests.

After reviewing the waiver request, RSPA/OPS published a notice inviting interested persons to comment on whether a waiver should be granted (Notice 1) (68 FR 66156; Jan. 9, 2004). No comments were received from the public in response to the notice.

For the reasons explained above and those explained in Notice 1, RSPA/OPS finds that the requested waiver is not inconsistent with pipeline safety. Therefore, Columbia Gas's request for a waiver is granted until July 1, 2004.

Issued in Washington, DC on March 23, 2004.
Stacey L. Gerard,
Associate Administrator for Pipeline Safety.

[FR Doc. 04-6904 Filed 3-26-04; 8:45 am]

BILLING CODE 4910-60-P